ENVIRONMENTAL PROTECTION AGENCY

[FRL 10015-20-OW]

Notice of Public Meeting of the Environmental Financial Advisory Board

AGENCY: Environmental Protection Agency (EPA).

ACTION: Notice.

SUMMARY: The United States Environmental Protection Agency (EPA) announces a public meeting of the Environmental Financial Advisory Board (EFAB). The purpose of the meeting will be for the EFAB to provide advice on how the EPA can encourage private investment in Opportunity Zones, receive a briefing on the Agency's response to recent EFAB reports, receive updates on EPA activities relating to environmental finance, and consider possible future advisory topics.

DATES: The meeting will be held on October 14, 2020 from 11 a.m. to 3 p.m. (Eastern Time) and October 15, 2020 from 11 a.m. to 3 p.m. (Eastern Time).

ADDRESSES: The meeting will be conducted via webcast and telephone. Interested persons must register in advance at the weblink below to access the meeting in the Registration for the Meeting section of this document.

FOR FURTHER INFORMATION CONTACT: Any member of the public who wants information about the meeting may contact Ed Chu, the Designated Federal Officer, via telephone/voice mail at (913) 551-7333 or email to chu.ed@epa.gov. General information concerning the EFAB is available at https://www.epa.gov/waterfinancecenter/efab.

SUPPLEMENTARY INFORMATION:

Background: The EFAB is an EPA advisory committee chartered under the Federal Advisory Committee Act (FACA), 5 U.S.C. App. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a virtual public meeting for the following purposes:

(1) Engage in a consultation on how the EPA can encourage private investment in Opportunity Zones. Qualified Opportunity Zones are census tracts of low-income and distressed communities designated by state governors and certified by the Department of Treasury. These are areas where new investments, under certain conditions, may be eligible for preferential tax treatment.

(2) Receive a briefing from EPA's Office of Water on the Agency's response to recent EFAB reports on funding and financing of stormwater infrastructure, water system regionalization, and alternative service delivery options for public utility projects.

(3) Receive briefings from invited speakers from EPA and the Environmental Finance Center Network on environmental finance topics, including activities to respond to the COVID-19 pandemic.

(4) Discuss potential future EFAB projects.

Availability of Meeting Materials: Meeting materials (including meeting agenda and briefing materials) will be available on EPA's website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public can submit comments on matters being considered by the EFAB for consideration by members as they develop their advice and recommendations to EPA.

Registration for the Meeting: Register for the meeting at: https://gcc01.safelinks.protection.outlook.com/?url=https%3A%2F%2Fwww.avcontact.com%2Fefab.

html&amp;%data=%02%7C01%7CBrubaker.Sonia%40epa.gov%7C915e3e05629945a554dc08d85be5de1d%7C88b378b367484867acf976aacbeca6a7%7C0%7C0%7C637360390137001741&amp;sdata=xDb51i46ng2VZg5GbVYjIUkprXQKpFnpdCa%2BxsAFEEA%3D&amp;reserved=0.

Oral Statements: In general, individuals or groups requesting an oral presentation at a virtual EFAB public meeting will be limited to three minutes. Persons interested in providing oral statements at the October 14 and 15, 2020 meetings should register and provide notification as noted in the registration confirmation by October 13, 2020 to be placed on the list of registered speakers.

Written Statements: Written statements for the October 14 and15, 2020 meetings should be received by October 7, 2020 so that the information can be made available to the EFAB for its consideration prior to the meeting. Written statements should be sent via email to efab@epa.gov. Members of the public should be aware that their personal contact information, if included in any written comments, may be posted to the EFAB website. Copyrighted material will not be posted without explicit permission of the copyright holder.

Accessibility: For information on access or services for individuals with disabilities, or to request accommodations for a disability, please register for the meeting and list any special requirements or accommodations needed on the registration form at least 10 business days prior to the meeting to allow as much time as possible to process your request.

Dated: September 23, 2020.
Andrew D. Sawyers,
Director, Office of Wastewater Management, Office of Water.

[FR Doc. 2020-21432 Filed 9-28-20; 8:45 am]

BILLING CODE 6560-50-P